DEPARTMENT OF COMMERCE

National Oceanic and Atmospheric Administration

[RTID 0648-XD480]

Fisheries of the South Atlantic; South Atlantic Fishery Management Council; Public Meeting

AGENCY: National Marine Fisheries Service (NMFS), National Oceanic and Atmospheric Administration (NOAA), Commerce.

ACTION: Notice of South Atlantic Fishery Management Council's (Council) System Management Plan (SMP) Workgroup meeting via webinar.

SUMMARY: The Council will hold a meeting of the SMP Workgroup via webinar on November 15, 2023. The workgroup will discuss recent research and evaluation tools of the Spawning Special Management Zones (SMZs). This meeting is the first meeting of the workgroup to develop recommendations on the management of the Spawning SMZs.

DATES: The meeting will be held on Wednesday, November 15, 2023, from 9 a.m. until 3 p.m.

ADDRESSES:

Meeting address: The webinar is open to members of the public. Information, including a link to webinar registration will be posted on the Council's website at: https://safmc.net/events/nov-2023-system-management-plan-workgroup-meeting/ as it becomes available.

Council address: South Atlantic Fishery Management Council, 4055 Faber Place Drive, Suite 201, N Charleston, SC 29405.

FOR FURTHER INFORMATION CONTACT: Kim Iverson, Public Information Officer, SAFMC; phone: (843) 302-8439 or toll free: (866) SAFMC-10; fax: (843) 769-4520; email: kim.iverson@safmc.net.

SUPPLEMENTARY INFORMATION: The SMP Workgroup is an advisory group for the Council that reviews actions items, evaluates managed areas, and reviews management of managed areas recommended by the Council. The workgroup will meet to discuss components of SMPs for the Spawning SMZs established by the Council. The workgroup is responsible for development of a report to the Council with recommendations. Components of the report include background information on managed areas; biological and habitat monitoring; socio-economic factors; enforcement and compliance; research recommendations; and outreach.

Agenda items for this meeting include: an overview on why the Spawning SMZs were established, the SMP for the Spawning Special Management Zones, recent research conducted in the areas, and evaluations for trends and management of the areas. The workgroup will discuss the evaluation for the area and how best to develop recommendations. The workgroup will also hold elections at the meeting.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: October 23, 2023.
Rey Israel Marquez,
Acting Deputy Director, Office of Sustainable Fisheries, National Marine Fisheries Service.

[FR Doc. 2023-23681 Filed 10-25-23; 8:45 am]

BILLING CODE 3510-22-P